DEPARTMENT OF ENERGY

Federal Energy Regulatory Commission

[Docket No. RM01-5-000]

Electronic Tariff Filings; Notice of Change to Implementation Date for Revisions to eTariff

Take notice that based on requests at the meeting on July 23, 2024, hosted by the North American Energy Standards Board (NAESB), the implementation of a revised version of eTariff will be delayed until November 25, 2024. As requested at the meeting, this delay will permit a single deployment of the revisions to eTariff to include the lead applicant name, as detailed in the June 11, 2024, Notice, along with additional revisions to the Type of Filing and Validation Error Codes. The Type of Filing and Validation Error Codes revisions will ensure that parties differentiate between (1) compliance filings in a current proceeding for which the filer has a filing identifier, which are assigned a subdocket, and (2) compliance filings, such as compliance with complaint orders and rulemakings, where the filer has no existing filing identifier and therefore must establish a new docket. New filing codes also will be assigned to allow utilities to distinguish baseline rate change filings from baseline initial rate filings.

Starting on September 30, 2024, the currently deployed test sandbox will include the revised filing type and validation error codes. A subsequent notice will be issued with the revised filing type and validation codes to be used in the sandbox testing.

Questions on these changes should be directed to: Michael Goldenberg at Michael.Goldenberg@ferc.gov or James Sarikas at James.Sarikas@ferc.gov.

Dated: September 6, 2024.
Debbie-Anne A. Reese,
Acting Secretary.

[FR Doc. 2024-20771 Filed 9-12-24; 8:45 am]

BILLING CODE 6717-01-P